DEPARTMENT OF HEALTH AND HUMAN SERVICES

Agency for Toxic Substances and Disease Registry and the Centers for Disease Control and Prevention

[ATSDR-184]

Clarification of Program Announcements Related to Environmental Health Tracking

AGENCIES: Agency for Toxic Substances and Disease Registry (ATSDR) and the Centers for Disease Control and Prevention (CDC), Department of Health and Human Services (HHS).

ACTION: Notice.

SUMMARY: The Agency for Toxic Substances and Disease Registry (ATSDR) and the Centers for Disease Control and Prevention (CDC) are jointly publishing this notice to inform potential applicants of their initiatives to build a National Environmental Public Health Tracking Network and plans for future collaboration and coordination between the two Agencies on the Network.

SUPPLEMENTARY INFORMATION:

ATSDR Programs

On June 20, 2002, the Agency for Toxic Substances and Disease Registry (ATSDR) published in the Federal Register Program Announcement 02155, (Vol. 67, No. 119, p. 42001) a request for proposals from states entitled, “Linking Chronic Disease and Environmental Data Sources.” ATSDR intends to fund two to three projects under this program. The purpose of these projects is to conduct research on the potential impact of environmental exposures on chronic disease outcomes. ATSDR's announcement is posted on CDC's Web site at <http://www.cdc.gov/funding.htm> listed under Grants and Cooperative Agreements and then ATSDR.

CDC Programs

On July 18, 2002, the Centers for Disease Control and Prevention (CDC) published Program Announcement 02179, “National Environmental Public Health Tracking Program” in the Federal Register (Vol. 67, No. 138, p. 47371). CDC is making available funds for up to 15 state or local pilot projects to (1) build environmental public health capacity, (2) increase collaboration between governmental, environmental and health agencies, (3) identify and evaluate existing data systems, (4) build partnerships with non-governmental organizations and communities, (5) develop model systems that link data and can be generalized to other states/localities, and (6) demonstrate the utility of these model systems in planning public health actions. This Request For Proposal is posted on CDC's Web site at <http://www.cdc.gov/funding.htm> listed under Grants and Cooperative Agreements and then Environmental Health.

Future Announcement(s)

CDC and ATSDR have been collaborating on these announcements and will continue to coordinate these activities at the federal level. In future years, the intention is to combine CDC's Program Announcement 02179 (”National Environmental Public Health Tracking Program”) and ATSDR's Program Announcement 02155 (“Linking Chronic Disease and Environmental Data Sources”) under one announcement. Therefore, applicants should be aware of the criteria in both announcements.

FOR FURTHER INFORMATION CONTACT: Judith R. Qualters, Ph.D., Acting Chief, Environmental Health Tracking Branch, Division of Environmental Hazards and Health Effects, National Center for Environmental Health, Centers for Disease Control and Prevention, Mailstop E39, Atlanta, Georgia, 30333, telephone 404-498-1815.

Dated: July 26, 2002.
James D. Seligman,
Associate Director for Program Services, Centers for Disease Control and Prevention.

[FR Doc. 02-19400 Filed 7-31-02; 8:45 am]

BILLING CODE 4163-70-P